NUCLEAR REGULATORY COMMISSION

[Docket Nos. 50-321 and 50-366]

Southern Nuclear Operating Company, Inc., Edwin I. Hatch Nuclear Plant, Unit Nos. 1 and 2; Environmental Assessment and Finding of No Significant Impact

The U.S. Nuclear Regulatory Commission (NRC) is considering issuance of an exemption from Title 10 of the Code of Federal Regulations (10 CFR), Part 50, section 50.55a(b)(2)(ix)(G), for Facility Operating License Nos. DRP-57 and NPF-5, issued to Southern Nuclear Operating Company, Inc. (the licensee), for operation of the Edwin I. Hatch Nuclear Plant, Unit Nos. 1 and 2 (Hatch), located in Appling County, Georgia. Therefore, as required by 10 CFR 51.21, the NRC is issuing this environmental assessment and finding of no significant impact.

Environmental Assessment

Identification of the Proposed Action

The proposed action would exempt the licensee from the requirements of 10 CFR 50.55a(b)(2)(ix)(G) and allow the licensee to perform a general visual examination of the accessible surface areas of the containment vessel pressure retaining vent system, in lieu of the VT-3 examination required by 10 CFR.

The proposed action is in accordance with the licensee's application dated March 30, 2005, as supplemented by letters dated August 2 and 24, 2005.

The Need for the Proposed Action

During the 3rd 10-year inservice inspection (ISI) interval, which ends December 31, 2005, the licensee's code of record, the 1992 American Society of Mechanical Engineers, Boiler and Pressure Vessel Code (ASME Code), including the 1992 addenda, required a VT-3 examination of the accessible surface areas of the boiling water reactor (BWR) vent system. For the 3rd 10-year ISI interval, by letter dated July 19, 2000, the licensee requested in Relief Request RR-MC-9 to perform a general visual examination in lieu of the VT-3 examination. The licensee explained that the proposed alternative was sufficient to detect the types of corrosion expected in the BWR vent system. This request was approved by the NRC by letter dated October 4, 2000.

For the 4th 10-year ISI interval, the licensee's code of record will be the 2001 edition through the 2003 addenda of the ASME Code. Modifications to the ASME Code and 10 CFR 50.55a have relocated the requirement to perform the VT-3 examination from the ASME Code to 10 CFR 50.55a(b)(2)(ix)(G). The licensee believes that the examination provisions previously authorized through Relief Request RR-MC-9 have proven to be sufficient to maintain the structural integrity and leak-tightness of the containment surfaces, and, therefore, serve the underlying purpose of the rule. The licensee is requesting to continue the use of similar provisions during the 4th ISI interval through an exemption.

Environmental Impacts of the Proposed Action

The NRC has completed its safety evaluation of the proposed action and concludes that performing a general visual examination as part of maintaining the integrity of the coating system will ensure the integrity of the coated vent system components, providing an acceptable level of quality and safety.

The details of the NRC staff's safety evaluation will be provided in the exemption that will be issued as part of the letter to the licensee approving the exemption from the regulation.

The proposed action will not significantly increase the probability or consequences of accidents. No changes are being made in the types of effluents that may be released off site. There is no significant increase in the amount of any effluent released off site. There is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the “Final Environmental Statement Related to the Operation of the Edwin I. Hatch Nuclear Plant, Unit 1 and Unit 2,” dated October 1972, and NUREG-0417, “Final Environmental Statement Related to the Operation of the Edwin I. Hatch Nuclear Plant, Unit 2,” dated March 1978.

Agencies and Persons Consulted

In accordance with its stated policy, on November 30, 2005, the staff consulted with the Georgia State official, James Hardeman, of the Department of Natural Resources, regarding the environmental impact of the proposed action for Hatch. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated March 30, 2005, as supplemented by letters dated August 2 and 24, 2005. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr@nrc.gov.

Dated at Rockville, Maryland, this 14th day of December 2004.
For the Nuclear Regulatory Commission.
Christopher Gratton,
Sr. Project Manager, Plant Licensing Branch II-1, Division of Operating Reactor Licensing, Office of Nuclear Reactor Regulation.

[FR Doc. E5-7704 Filed 12-21-05; 8:45 am]

BILLING CODE 7590-01-P